NUCLEAR REGULATORY COMMISSION

10 CFR Chapter I

[NRC-2018-0113]

Clarification of Export Reporting Requirements for Nuclear Facilities, Equipment, and Non-Nuclear Materials

AGENCY: Nuclear Regulatory Commission.

ACTION: Regulatory issue summary; issuance.

SUMMARY: The U.S. Nuclear Regulatory Commission (NRC) is issuing Regulatory Issue Summary (RIS) 2019-01, “Clarification of Export Reporting Requirements for Nuclear Facilities, Equipment, and Non-Nuclear Materials.” This RIS is intended to clarify the reporting requirements for certain exports of nuclear facilities, equipment, and non-nuclear materials. The NRC's regulations state, in part, that licensees exporting nuclear facilities, equipment, and certain non-nuclear materials under a general or specific license during the previous quarter must submit reports by January 15, April 15, July 15, and October 15 of each year on DOC/NRC Forms AP-M or AP 13, and associated forms. The RIS includes information relating to this reporting requirement and clarifies that the quarterly reporting requirement is in addition to, and not obviated by, the separate NRC annual reporting requirement in its regulations.

DATES: The RIS is available as of April 2, 2019.

ADDRESSES: Please refer to Docket ID NRC-2018-0113 when contacting the NRC about the availability of information regarding this document. You may obtain publicly-available information related to this document using any of the following methods:

• Federal Rulemaking Website: Go to http://www.regulations.gov and search for Docket ID NRC-2018-0113. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. This RIS is available under ADAMS Accession No. ML18269A254.

• NRC's PDR: You may examine and purchase copies of public documents at the NRC's PDR, Room O1-F21, One White Flint North, 11555 Rockville Pike, Rockville, Maryland 20852.

• This RIS is also available on the NRC's public website at http://www.nrc.gov/reading-rm/doc-collections/gen-comm/reg-issues/ (select “2018” and then select “2019-01”).

FOR FURTHER INFORMATION CONTACT: Andrea Jones, Office of International Programs, U.S. Nuclear Regulatory Commission, Washington DC 20555-0001; telephone: 301-287-9072; email: Andrea.Jones2@nrc.gov.

SUPPLEMENTARY INFORMATION: The NRC published a notice of opportunity for public comment on this RIS in the Federal Register (83 FR 26611) on June 8, 2018. The agency received comments from one commenter. The staff considered all comments, which resulted in changes to the RIS. The evaluation of these comments and the resulting changes to the RIS are discussed in a publicly available memorandum in ADAMS under Accession No. ML18269A255. As noted in 83 FR 20858 (May 8, 2018), this document is being published in the Rules section of the Federal Register to comply with publication requirements under Title 1 of the Code of Federal Regulations, Chapter I.

Dated at Rockville, Maryland, this 28th day of March 2019.
For the Nuclear Regulatory Commission.
Tara Inverso,
Chief, ROP Support and Generic Communications Branch, Division of Inspection and Regional Support, Office of Nuclear Reactor Regulation.

[FR Doc. 2019-06373 Filed 4-1-19; 8:45 am]

BILLING CODE 7590-01-P